DEPARTMENT OF TRANSPORTATION

Office of the Secretary

[Docket No. OST-2005-21074]

Notice of Request for Extension of a Previously Approved Collection

AGENCY: Office of the Secretary, DOT.

ACTION: Notice; correction.

SUMMARY: The Office of the Secretary published a document in the Federal Register on April 29, 2005, concerning a request for an extension of a previously approved information collection. We are correcting the document as set forth below.

FOR FURTHER INFORMATION CONTACT: Ms. Torlanda Archer, Office of the Secretary, Office of International Aviation, Department of Transportation, 400 Seventh Street, SW., Washington, DC 20590, (202) 366-1037.

Correction

In the April 29, 2005, Federal Register (70 FR 22388), correct the Estimated Number of Respondents and Estimated Total Burden on Respondents. And add the Average Annual Burden per respondent to read:

Estimated Number of Respondents: 374.

Average Annual Burden per Respondent: 3.45 hours.

Estimated Total Burden on Respondents: 1,290 hours.

Issued in Washington, DC on July 12, 2005.
Jeffrey Gaynes,
Assistant Director for Regulatory Affairs, Office of International Aviation.

[FR Doc. 05-14058 Filed 7-15-05; 8:45 am]

BILLING CODE 4910-62-P